DEPARTMENT OF ENERGY

[GDO Docket No. EA-446-A]

Application for Renewal of Authorization To Export Electric Energy; Emera Energy Services Subsidiary No. 11 LLC

AGENCY: Grid Deployment Office, Department of Energy.

ACTION: Notice of application.

SUMMARY: Emera Energy Services Subsidiary No. 11 LLC (the Applicant or EESS-11) has applied for renewed authorization to transmit electric energy from the United States to Canada pursuant to the Federal Power Act.

DATES: Comments, protests, or motions to intervene must be submitted on or before May 11, 2023.

ADDRESSES: Comments, protests, motions to intervene, or requests for more information should be addressed by electronic mail to electricity.exports@hq.doe.gov.

FOR FURTHER INFORMATION CONTACT: Christina Gomer, (240) 474-2403, electricity.exports@hq.doe.gov.

SUPPLEMENTARY INFORMATION: The U. S. Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On June 13, 2022, the authority to issue such orders was delegated to the DOE's Grid Deployment Office (GDO) under Delegation Order No. S1-DEL-S3-2022-2 and Redelegation Order No. S3-DEL-GD1-2022.

On June 22, 2018, DOE issued Order No. EA-446 authorizing EESS-11 to transmit electric energy from the United States to Canada as a power marketer. On February 7, 2023, EESS-11 filed an application with DOE (Application or App) for renewal of their export authority for an additional five-year term. App at 1.

In its Application, EESS-11 states that it “does not own or control any electric power generation or transmission facilities and does not have a franchised electric power service area.” App. at 5. EESS-11 also states it “operates as a marketing company involved in, among other things, the purchase and sale of electricity in the United States as a power marketer.” Id. EESS-11 represents that it “will purchase surplus electric energy from electric utilities and other suppliers within the United States and will export this energy to Canada over the international electric transmission facilities.” Id. at 6. Therefore, the Applicant contends that “because this electric energy will be purchased from others voluntarily, it will be surplus to the needs of the selling entities.” Id. EESS-11 further contends its “export of power will not impair the sufficiency of electric power supply in the U.S.” Id.

The existing international transmission facilities to be utilized by the Applicant have been previously authorized by Presidential permits issued pursuant to Executive Order 10485, as amended, and are appropriate for open access transmission by third parties. See app at Exhibit C.

Procedural Matters: Any person desiring to be heard in this proceeding should file a comment or protest to the Application at the address provided previously. Protests should be filed in accordance with Rule 211 of FERC's Rules of Practice and Procedure (18 CFR 385.211). Any person desiring to become a party to this proceeding should file a motion to intervene at the previous address in accordance with FERC Rule 214 (18 CFR 385.214).

Comments and other filings concerning EESS-11's Application should be clearly marked with GDO Docket No. EA-446-A. Additional copies are to be provided directly to Keith Sutherland, Vice President, Legal & Regulatory Affairs—Emera Energy, 5151 Terminal Road, Halifax, NS B3J 1A1 Canada, keith.sutherland@emeraenergy.com and Bonnie A. Suchman, Suchman Law LLC, 8104 Paisley Place, Potomac, Maryland, 20854, bonnie@suchmanlawllc.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available on the program website at https://www.energy.gov/gdo/pending-applications or, upon request, by emailing Electricity.Exports@hq.doe.gov.

Signing Authority: This document of the Department of Energy was signed on April 5, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on April 6, 2023.
Treena V. Garrett,
Federal Register Liaison Officer, U.S. Department of Energy.

[FR Doc. 2023-07551 Filed 4-10-23; 8:45 am]

BILLING CODE 6450-01-P